DEPARTMENT OF ENERGY

Federal Energy Regulatory Commission

[Project No. 13212-005]

Kenai Hydro, LLC; Notice of Comment Period Extension

On December 6, 2018, the Commission issued a letter extending the comment period for comments on the draft EIS for the proposed Grant Lake Hydroelectric Project (P-13212-005) to January 9, 2019. Due to the funding lapse at certain federal agencies between December 22, 2018 and January 25, 2019, the Commission is extending this comment period until March 1, 2019.

Dated: February 11, 2019.
Kimberly D. Bose,
Secretary.

[FR Doc. 2019-02704 Filed 2-19-19; 8:45 am]

BILLING CODE 6717-01-P